NUCLEAR WASTE TECHNICAL REVIEW BOARD

Board Meeting

October 24, 2018—The U.S. Nuclear Waste Technical Review Board will meet in Albuquerque, New Mexico, to review information on DOE research and development activities related to managing and disposing of commercial spent nuclear fuel.

Pursuant to its authority under section 5051 of Public Law 100-203, Nuclear Waste Policy Amendments Act (NWPAA) of 1987, the U.S. Nuclear Waste Technical Review Board will hold a public meeting in Albuquerque, New Mexico, on Wednesday, October 24, 2018, to review information on U.S. Department of Energy (DOE) research and development (R&D) activities related to managing and disposing of commercial spent nuclear fuel (SNF). The Board is an independent federal agency established by Congress to conduct an ongoing technical and scientific evaluation of activities undertaken by DOE to manage and dispose of SNF and high-level radioactive waste (HLW).

The Board meeting will be held at the Albuquerque Marriott, 2101 Louisiana Boulevard NE, Albuquerque, NM 87110. The hotel telephone number is (505) 881-6800.

The meeting will begin at 8:00 a.m. and is scheduled to adjourn at 5:00 p.m. Speakers from the DOE Office of Nuclear Energy (DOE-NE) and national laboratories will report on R&D projects related to extended storage and transportation of high-burnup SNF, including recent progress in the High-Burnup Dry Storage Cask Research Project and the results of a test that transported an SNF cask containing surrogate SNF assemblies on a 14,500 mile journey by truck, barge, cargo ship, and train. The Board also will hear presentations on DOE-NE R&D activities related to direct disposal of SNF in dual-purpose canisters. A detailed meeting agenda will be available on the Board's website at www.nwtrb.gov approximately one week before the meeting.

The meeting will be open to the public, and opportunities for public comment will be provided before the lunch break and again at the end of the meeting. Those wanting to speak are encouraged to sign the “Public Comment Register” at the check-in table. Depending on the number of people who sign up to speak, it may be necessary to set a time limit on individual remarks. However, written comments of any length may be submitted, and all comments received in writing will be included in the record of the meeting, which will be posted on the Board's website after the meeting. The meeting will be webcast, and the link to the webcast will be available on the Board's website (www.nwtrb.gov) a few days before the meeting. An archived version of the webcast will be available on the Board's website following the meeting. The transcript of the meeting will be available on the Board's website no later than December 29, 2018.

The Board was established in the Nuclear Waste Policy Amendments Act of 1987 as an independent federal agency in the Executive Branch to evaluate the technical and scientific validity of DOE activities related to the management and disposal of SNF and HLW and to provide objective expert advice to Congress and the Secretary of Energy on these issues. Board members are experts in their fields and are appointed to the Board by the President from a list of candidates submitted by the National Academy of Sciences. The Board reports its findings, conclusions, and recommendations to Congress and the Secretary of Energy. All Board reports, correspondence, congressional testimony, and meeting transcripts and related materials are posted on the Board's website.

For information on the meeting agenda, contact Roberto Pabalan: pabalan@nwtrb.gov or Karyn Severson: severson@nwtrb.gov. For information on logistics, or to request copies of the meeting agenda or transcript, contact Davonya Barnes: barnes@nwtrb.gov. All three may be reached by mail at 2300 Clarendon Boulevard, Suite 1300, Arlington, VA 22201-3367; by telephone at 703-235-4473; or by fax at 703-235-4495.

Dated: September 13, 2018.
Nigel Mote,
Executive Director, U.S. Nuclear Waste Technical Review Board.

[FR Doc. 2018-20361 Filed 9-18-18; 8:45 am]

BILLING CODE 6820-AM-P